DEPARTMENT OF THE TREASURY

Office of Foreign Assets Control

Unblocking of Specially Designated Nationals and Blocked Persons Pursuant to the Foreign Narcotics Kingpin Designation Act

AGENCY: Office of Foreign Assets Control, Treasury.

ACTION: Notice.

SUMMARY: The Department of the Treasury's Office of Foreign Assets Control (OFAC) is publishing the names of five individuals and three entities whose property and interests in property have been unblocked pursuant to the Foreign Narcotics Kingpin Designation Act (Kingpin Act) (21 U.S.C. 1901-1908, 8 U.S.C. 1182). Additionally, OFAC is publishing an update to the identifying information of one individual currently included in the list of Specially Designated Nationals and Blocked Persons (SDN List).

DATES: The unblocking and removal from the list of Specially Designated Nationals and Blocked Persons (SDN List) of the individuals and entities identified in this notice whose property and interests in property were blocked pursuant to the Kingpin Act, is effective on August 27, 2015. Additionally, the update to the SDN List of the identifying information of the individual identified in this notice is also effective on August 27, 2015.

FOR FURTHER INFORMATION CONTACT: Assistant Director, Sanctions Compliance & Evaluation, Department of the Treasury, Office of Foreign Assets Control, Washington, DC 20220, Tel: (202) 622-2420.

SUPPLEMENTARY INFORMATION:

Electronic and Facsimile Availability

This document and additional information concerning OFAC are available from OFAC's Web site at www.treasury.gov/ofac or via facsimile through a 24-hour fax-on demand service at (202) 622-0077.

Background

On December 3, 1999, the Kingpin Act was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On August 27, 2015, the Associate Director of the Office of Global Targeting removed from the SDN List the individuals and entities listed below, whose property and interests in property were blocked pursuant to the Kingpin Act:

Individuals

1. OICATA MORALES, Gelber Mauricio, c/o AGROVET EL REMANSO, Bogota, Colombia; DOB 29 Sep 1963; Cedula No. 74322694 (Colombia) (individual) [SDNTK].

2. REY REY, Blanca Lucy, c/o SERVICIOS TURISTICOS EL GALERON LLANERO LTDA., San Martin, Meta, Colombia; c/o SUCESORES DE HERNANDO SANCHEZ V S.C.S., Bogota, Colombia; Avenida 19 No. 118-30, Bogota, Colombia; Hacienda Santa Rosa, San Martin, Meta, Colombia; DOB 01 Jul 1953; Cedula No. 41616052 (Colombia) (individual) [SDNTK].

3. SANCHEZ REY, Alberto de Set, c/o SERVICIOS TURISTICOS EL GALERON LLANERO LTDA., San Martin, Meta, Colombia; c/o SUCESORES DE HERNANDO SANCHEZ V S.C.S., Bogota, Colombia; Avenida 19 No. 118-30 Of. 302, Bogota, Colombia; Hacienda Santa Rosa, San Martin, Meta, Colombia; DOB 01 Jan 1972; Cedula No. 79568901 (Colombia); Matricula Mercantil No. 1969885 (Colombia) (individual) [SDNTK].

4. SANCHEZ REY, Hernando, c/o SERVICIOS TURISTICOS EL GALERON LLANERO LTDA., San Martin, Meta, Colombia; c/o SUCESORES DE HERNANDO SANCHEZ V S.C.S., Bogota, Colombia; Avenida 19 No. 118-30 Of. 302, Bogota, Colombia; DOB 08 Jul 1974; Cedula No. 79626433 (Colombia); Matricula Mercantil No. 1738008 (Colombia) (individual) [SDNTK].

5. NUNEZ BEDOYA, Jose Antonio, Calle Lic. Benito Juarez No. 396, Interior No. 5, Colonia Centro, Culiacan, Sinaloa 80000, Mexico; DOB 21 Dec 1941; POB Sinaloa, Mexico; nationality Mexico; citizen Mexico; R.F.C. NUBA411221867 (Mexico); C.U.R.P. NUBA411221HSLXDN05 (Mexico) (individual) [SDNTK].

Entities

1. AGROVET EL REMANSO, Carrera 35A No. 17B-05 Sur, Bogota, Colombia; Carrera 86 Sur No. 24A-19 Bdg. 79 L-3, Bogota, Colombia; Matricula Mercantil No. 1095044 (Colombia) [SDNTK].

2. SUCESORES DE HERNANDO SANCHEZ V S.C.S., Avenida 19 No. 118-30 Ofc. 302, Bogota, Colombia; La Dorada, Caldas, Colombia; San Martin, Meta, Colombia; NIT # 860071634-3 (Colombia) [SDNTK].

3. SERVICIOS TURISTICOS EL GALERON LLANERO LTDA. (a.k.a. PARADOR TURISTICO Y HOTEL GALERON LLANERO), Avenida 19 No. 118-30 Ofc. 302, Bogota, Colombia; Calle 6 No. 17-99, San Martin, Meta, Colombia; NIT # 900025014-6 (Colombia) [SDNTK].

Additionally, on August 27, 2015, the Associate Director of the Office of Global Targeting updated the SDN record for the individual listed below, whose property and interests in property continue to be blocked pursuant to the Order:

Individual

1. SANCHEZ REY, German Gonzalo (a.k.a. “COLETA”), Calle 41A No. 55-49, Bogota, Colombia; DOB 22 Feb 1973; POB Barrancabermeja, Santander, Colombia; Cedula No. 79625841 (Colombia) (individual) [SDNTK].

Dated: August 27, 2015.
Gregory T. Gatjanis,
Associate Director, Office of Global Targeting, Office of Foreign Assets Control.

[FR Doc. 2015-21662 Filed 9-1-15; 8:45 am]

BILLING CODE 4810-AL-P